DEPARTMENT OF DEFENSE

Office of the Secretary

[Transmittal No. 24-0H]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0H.

Dated: November 13, 2025.
Aaron T. Siegel,
Alternate OSD Federal Register Liaison Officer, Department of Defense.

BILLING CODE 6001-FR-P

BILLING CODE 6001-FR-C

Transmittal No. 24-0H

REPORT OF ENHANCEMENT OR UPGRADE OF SENSITIVITY OF TECHNOLOGY OR CAPABILITY (SEC. 36(b)(5)(C)), (AECA)

(i) Purchaser: Government of Norway

(ii) Sec. 36(b)(1), AECA Transmittal No.: 13-68

Date: December 18, 2013

Implementing Agency: Air Force

(iii) Description: On December 18, 2013, Congress was notified by congressional certification transmittal number 13-68 of the possible sale, under Section 36(b)(1) of the Arms Export Control Act, of C-130J technical, engineering and software support; software updates and patches; familiarization training for the Portable Flight Planning System (PFPS) and the Joint Mission Planning System (JMPS); spare and repair parts; U.S. Government and contractor technical support services; and other related elements of logistics and program support. The estimated total cost was $107 million. There was no Major Defense Equipment (MDE) associated with this sale.

On July 6, 2018, Congress was notified by congressional certification transmittal number 18-0D of the extension of non-MDE support provided to Norway's C-l30J aircraft sustainment program, including additional distribution support for unclassified and classified software. Extending the sustainment case resulted in an increase in non-MDE cost of $123 million. The total case value increased to $230 million. The total MDE value remained $0.

This transmittal notifies inclusion of the following additional non-MDE items: Joint Mission Planning Systems; spare parts, consumables, and accessories; minor modifications and maintenance support; precision navigation; support equipment; contractor-provided technical order data; U.S. Government and contractor technical and logistics support services; and other related elements of logistics and program support. The estimated total value of the new non-MDE items is $586.6 million. This addition will result in an increase in the estimated total case value to $816.6 million. The total MDE value will remain $0.

(iv) Significance: The proposed sale will support Norway's ability to continue effective maintenance of its current C-l30J fleet.

(v) Justification: This proposed sale will support the foreign policy goals and national security objectives of the United States by improving the security of a NATO Ally that is an important force for political stability and economic progress in Europe.

(vi) Date Report Delivered to Congress: June 21, 2024

[FR Doc. 2025-20030 Filed 11-17-25; 8:45 am]

BILLING CODE 6001-FR-P